DEPARTMENT OF COMMERCE

Foreign-Trade Zones Board

[B-67-2020]

Foreign-Trade Zone (FTZ) 26—Atlanta, Georgia; Authorization of Limited Production Activity; Ricoh Electronics, Inc. (Toner Products, Thermal Paper and Thermal Film), Lawrenceville and Buford, Georgia

On, November 2, 2020, Ricoh Electronics, Inc. (Ricoh) submitted a notification of proposed production activity to the FTZ Board for its facilities within FTZ 26 in Lawrenceville and Buford, Georgia.

The notification was processed in accordance with the regulations of the FTZ Board (15 CFR part 400), including notice in the Federal Register inviting public comment (85 FR 72620-72621, November 13, 2020). On March 2, 2021, the applicant was notified of the FTZ Board's decision that further review of part of the proposed activity is warranted. The FTZ Board authorized the production activity described in the notification on a limited basis, subject to the FTZ Act and the Board's regulations, including Section 400.14, and further subject to a five-year time limit on authorization for Ricoh to admit its “titanium dioxide mixture” input in nonprivileged foreign status (19 CFR 146.42).

Dated: March 2, 2021.
Andrew McGilvray,
Executive Secretary.

[FR Doc. 2021-04570 Filed 3-4-21; 8:45 am]

BILLING CODE 3510-DS-P